DEPARTMENT OF THE INTERIOR

National Park Service

[NPS-WASO-NRSS-06/24-7784; 2330-RYY]

Agency Information Collection Activities: Extension of a Currently Approved Information Collection

AGENCY: National Park Service, Interior.

ACTION: Notice of a revision of a currently approved information collection (1024-0224).

SUMMARY: We (National Park Service) will ask the Office of Management and Budget (OMB) to approve the information collection request (ICR) described below. As required by the Paperwork Reduction Act of 1995 and as part of our continuing efforts to reduce paperwork and respondent burden, we invite the general public and other Federal agencies to take this opportunity to comment on this ICR which is an extension of a currently approved collection of information (OMB #1024-0224). We may not conduct or sponsor, and a person is not required to respond to, a collection of information unless it displays a currently valid OMB control number.

DATES: Public comments will be accepted on or before July 29, 2011.

ADDRESSES: Please submit written comments on this ICR to the OMB Office of Information and Regulatory Affairs, Attention: Desk Officer for the Department of the Interior via e-mail to oira_docket@omb.eop.gov or fax at 202-395-5806; and reference Information Collection 1024-0224 in the subject line. Please also submit a copy of your comments to Phadrea Ponds, Information Collection Coordinator, National Park Service, 1201 Oakridge Drive, Fort Collins, CO 80525 (mail): or phadrea_ponds@nps.gov (e-mail); and reference Information Collection 1024-0224 in the subject line.

FOR FURTHER INFORMATION CONTACT: Dr. Bruce Peacock, Chief, NPS Social Science Division, 1201 Oakridge Drive, Fort Collins, CO 80525; 970-267-2106 (Phone); 970-225-3597 (Fax); or Bruce_Peacock@nps.gov (e-mail). To see a copy of the entire ICR submitted to OMB, go to http://www.reginfo.gov (Information Collection Review, Currently under Review).

SUPPLEMENTARY INFORMATION:

I. Abstract

The NPS needs information concerning park visitors and visitor services, potential park visitors, and residents of communities near parks to provide National Park Service (NPS) managers with usable knowledge for improving the quality and utility of agency programs, services, and planning efforts. Since many of the NPS surveys are similar in terms of the populations being surveyed, the types of questions being asked, and research methodologies, the NPS proposes to renew its clearance from OMB for a generic Information Collection (1024-0224) of NPS-sponsored surveys. Since 1999, the benefits of this generic approval program have been significant to the NPS, Department of the Interior, OMB, NPS cooperators, and the public. Significant time and cost savings have been incurred and 514 surveys have been conducted in units throughout the National Park System. Approval was typically granted in 60 days or less from the date the Principal Investigator (PI) first submitted the survey package for review. This is a significant reduction over the approximately 6-8 months involved in the regular OMB review process. From FY 1999 through FY 2010, the generic ICR process has produced an estimated cost savings to the Federal government and PIs of $1,017,495.

II. Data

Title: Programmatic Clearance for NPS-Sponsored Public Surveys.

OMB Control Number: 1024-0224.

Current Expiration Date: June 30, 2011.

Type of Request: Extension of a currently approved collection.

Affected Public: General Public; visitors and potential visitors to parks, and residents of communities near parks.

Respondent Obligation: Voluntary.

Frequency of Collection: One-time; on occasion.

Estimated Number of Annual Responses: 57,500.

Annual Burden Hours: 19,350 hours.

Estimated Reporting and Recordkeeping “Non-Hour Cost” Burden: We have not identified any “non-hour cost” burdens associated with this collection of information.

III. Request for Comments

Comments are invited on: (1) The practical utility of the information being gathered; (2) the accuracy of the burden hour estimate; (3) ways to enhance the quality, utility, and clarity of the information to be collected; and (4) ways to minimize the burden to respondents, including use of automated information techniques or other forms of information technology.

Please note that the comments submitted in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: June 24, 2011.
Robert M. Gordon,
Information Collection Clearance Officer, National Park Service.

[FR Doc. 2011-16321 Filed 6-28-11; 8:45 am]

BILLING CODE 4312-52-P